DEPARTMENT OF HEALTH AND HUMAN SERVICES

Centers for Medicare & Medicaid Services

[Document Identifier: CMS-10291]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: State Collection and Reporting of Dental Provider and Benefit Package Information on the Insure Kids Now! Web site and Hotline; Use: The Children's Health Insurance Program Reauthorization Act of 2009 (CHIPRA) sections 501(f)(1) and (2), requires that state-specific information on dental providers and benefits be posted on the Insure Kids Now (IKN) Web site and available on the hotline. States must update the information on the dental providers quarterly and the information on their benefit package annually. CMS is asking States to submit their dental benefits in a revised format that is designed to reduce the amount of time States have to spend in compiling the dental benefit information. Although in the past we allowed States to only check a box to indicate that the Medicaid dental benefits were in compliance with Early and Periodic Screening, Diagnostic and Treatment (EPSDT) services, we are also modifying the form to ask States to include their Medicaid dental benefits in this form so those may also be posted on the Web site. In addition, we are asking States to specify if they have a dollar or code limit at which point prior authorization is required for any additional services and if they have cost sharing requirements for dental services; Form Number: CMS-10291 (OMB #: 0938-1065); Frequency: Yearly (dental benefits) and quarterly (dental providers); Affected Public: State, Local, or Tribal Governments; Number of Respondents: 51; Total Annual Responses: 255; Total Annual Hours: 190. (For policy questions regarding this collection contact Nancy Goetschius at 410-786-0707. For all other issues call 410-786-1326.)

To obtain copies of the supporting statement and any related forms for the proposed paperwork collections referenced above, access CMS' Web site address at http://www.cms.hhs.gov/PaperworkReductionActof1995, or e-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by October 4, 2011:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

Dated: August 1, 2011.
Martique Jones,
Director, Regulations Development Group, Division B, Office of Strategic Operations and Regulatory Affairs.

[FR Doc. 2011-19768 Filed 8-4-11; 8:45 am]

BILLING CODE 4120-01-P